FEDERAL RESERVE SYSTEM

Change in Bank Control Notices; Acquisition of Shares of Bank or Bank Holding Companies; Correction

This notice corrects a notice (FR Doc. 05-15502) published on page 45391 of the issue for Friday, August 5, 2005.

Under the Federal Reserve Bank of Kansas City heading, the entry for Kenneth D. Klehm, Edmond, Oklahoma, and G. Blake Hogan, Houston, Texas, as trustees of the William M. Cameron 2004 Family Trusts, Oklahoma City, Oklahoma; and John W. Rex and Theodore M. Elam, as trustees of the Lynda L. Cameron 2004 Trust, all of Oklahoma City, Oklahoma, is revised to read as follows:

A. Federal Reserve Bank of Kansas City (Donna J. Ward, Assistant Vice President) 925 Grand Avenue, Kansas City, Missouri 64198-0001:

1. The William M. Cameron 2004 Family Trust, Oklahoma City, Oklahoma, and its trustees, Kenneth D. Klehm, Edmond, Oklahoma, and G. Blake Hogan, Houston, Texas; and the Lynda L. Cameron 2004 Trust, and its trustees John W. Rex and Theodore M. Elam, all of Oklahoma City, Oklahoma; to retain voting shares of First Fidelity Bancorp, Inc., and thereby indirectly retain voting shares of First Fidelity Bank, National Association, both of Oklahoma City, Oklahoma.

Comments on this application must be received by August 19, 2005.

Board of Governors of the Federal Reserve System,August 9, 2005.
Robert deV. Frierson,
Deputy Secretary of the Board.

[FR Doc. 05-16088 Filed 8-12-05; 8:45 am]

BILLING CODE 6210-01-S